DEPARTMENT OF AGRICULTURE

Submission for OMB Review; Comment Request

August 12, 2008.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Food Stamp Employment and Training (E&T) Program Activity Report.

OMB Control Number: 0584-0339.

Summary of Collection: The Balanced Budget Act of 1997 (Pub. L. 105-33), enacted on August 5, 1997, modified the Employment and Training (E&T) Program so that States' efforts are now focused on a particular segment of the food stamp population able-bodied adults without dependents (ABAWDs). Section 6(d) of the Food Stamp Act of 1977 and 7 CFR 273.7 require each food stamp household member who is not exempt shall be registered for employment by the State agency at the time of application and once every twelve months thereafter, as a condition of eligibility. This requirement pertains to non-exempt food stamp household member age 16 to 60. Each State agency must screen each work registrant to determine whether to refer the individual to its E&T Program. States' E&T Programs are federally funded through an annual E&T grant. Both the Food Stamp Act and regulations require States to file quarterly reports about their E&T Programs so that the Food and Nutrition Service (FNS) can monitor their performance.

Need and Use of the Information: FNS will collect quarterly reports about their E&T programs so that the Department can monitor State performance to ensure that the program is being efficiently and economically operated. Without the information FNS would be unable to make adjustments or allocate exemptions in accordance with the statute.

Description of Respondents: State, Local, or Tribal Government.

Number of Respondents: 53.

Frequency of Responses: Recordkeeping; Reporting: Quarterly; Annually.

Total Burden Hours: 21,755.

Food and Nutrition Service

Title: Food Stamp Program Pre-Screening Tool.

OMB Control Number: 0584-0519.

Summary of Collection: Consistent with Section 5 of the Food Stamp Act of 1977, the Food and Nutrition Service (FNS) has initiated this program to enable potential Food Stamp Program applicants to assess their eligibility and the order of magnitude of the potential benefit they may qualify for. This Pre-Screening Tool also enables citizen advocacy groups to help constituents assess their benefit eligibility. This will also help the Food Stamp Program fulfill its role as a means-tested program in accordance with Section 5 of the Food Stamp Act and part 273 of the Food Stamp Program regulations.

Need and Use of the Information: This Food Stamp Program Pre-Screening Tool will be accessible to the public as an online Web-based system. The user will be prompted to enter household size, income, expenses and resource information, and the tool will calculate and provide the user with and estimated range of benefits that the household may be eligible to receive. This information will help FNS determine the degree and type of system usage as well as potential areas for further study.

Description of Respondents: Individuals or households; State, Local, or Tribal Government; Not-for-profit institutions.

Number of Respondents: 264,000.

Frequency of Responses: Reporting: On occasion.

Total Burden Hours: 44,000.

Ruth Brown,
Departmental Information Collection Clearance Officer.

[FR Doc. E8-18926 Filed 8-14-08; 8:45 am]

BILLING CODE 3410-30-P